DEPARTMENT OF HOMELAND SECURITY

Federal Emergency Management Agency

[Docket ID: FEMA-2024-0023; OMB No. 1660-0026]

Agency Information Collection Activities: Proposed Collection, Comment Request; Administrative Plan for the Hazard Mitigation Grant Program

AGENCY: Federal Emergency Management Agency, Department of Homeland Security.

ACTION: 60-Day notice of Extension and request for comments.

SUMMARY: The Federal Emergency Management Agency (FEMA), as part of its continuing effort to reduce paperwork and respondent burden, invites the general public to take this opportunity to comment on an extension of a currently approved information collection. In accordance with the requirements of the Paperwork Reduction Act of 1995, this notice seeks comments concerning the State Administrative Plan for the procedural guide that details how the State will administer the Hazard Mitigation Grant Program (HMGP).

DATES: Comments must be submitted on or before October 18, 2024.

ADDRESSES: To avoid duplicate submissions to the docket, please submit comments at http://www.regulations.gov under Docket ID FEMA-2024-0023. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Travis Battiest, Section Chief for Tools, SOPS, and Implementation, Hazard Mitigation Assistance Division, Mitigation Directorate, FEMA, at (202) 714-8052 or travis.battiest@fema.dhs.gov. You may contact the Information Management Division for copies of the proposed collection of information at email address: FEMA-Information-Collections-Management@fema.dhs.gov.

SUPPLEMENTARY INFORMATION: FEMA regulations in 44 CFR 206.437 require development and updates to the Administrative Plan by Applicants or Recipients as a condition of receiving Hazard Mitigation Grant Program (HMGP) funding under section 404 of the Robert T. Stafford Disaster Relief and Emergency Assistance Act of 1988 (Pub. L. 93-288, as amended) (42 U.S.C. 5170c). Applicants or Recipients can be any State of the United States, the District of Columbia, Puerto Rico, the Virgin Islands, Guam, American Samoa, the Commonwealth of the Northern Mariana Islands, or the government of a Federally-recognized Tribe that chooses to act as an Applicant or Recipient.

The regulation at 44 CFR 206.437 requires a State to have a FEMA-approved Administrative Plan to receive HMGP funding. At its minimum, the Administrative Plan will include the designated State agency or Indian Tribal government that will act as the Recipient, identify the State Hazard Mitigation Officer or Tribal Hazard Mitigation Officer, identify staffing requirements, and establish a guide for implementation activities and procedures to account for non-Federal cost sharing. Additional information requirements are guided by the type of mitigation activities being pursued.

The State, territorial, or Tribal government must establish procedures to guide the administration of the HMGP in the Administrative Plan, as outlined in the listed activities below. FEMA will review the information provided to ensure proper documentation of each activity.

The Department of Homeland Security (DHS) adopted in its entirety the Uniform Administrative Requirements, Cost Principles, and Audit Requirements for Federal Awards (2 CFR part 200) on December 26, 2014. This rule eliminates overlapping and duplicative requirements for stakeholders, including States, territories and Indian Tribal governments, by using general terms such as “recipient” or “pass-through entity.” FEMA is also avoiding unnecessary duplication, overlap and the demand for maintenance of requirements under HMGP in two documents, the State Administrative Plan, and the Tribal Administrative Plan. FEMA instead is offering and referring to one common set of requirements in an “Administrative Plan.” The term “State Administrative Plan” is now referred to “Administrative Plan for the Hazard Mitigation Grant Program”.

Collection of Information

Title: Administrative Plan for the Hazard Mitigation Grant Program.

Type of Information Collection: Extension of a currently approved information collection.

OMB Number: 1660-0026.

FEMA Forms: Not applicable.

Abstract: The State Administrative Plan for the Hazard Mitigation Grant Program (HMGP) is a procedural guide that details how the State, territory, or Tribal government will administer the HMGP. The State, territory, or Tribal government (who acts as a recipient) must have a current administrative plan approved by the appropriate FEMA Regional Administrator before receiving HMGP funds. The administrative plan may take any form including a chapter within a comprehensive State, territory, or Tribal mitigation program strategy.

Affected Public: State, Local, or Tribal Government.

Estimated Number of Respondents: 35.

Estimated Number of Responses: 70.

Estimated Total Annual Burden Hours: 560.

Estimated Total Annual Respondent Cost: $34,143.

Estimated Respondents' Operation and Maintenance Costs: $0.

Estimated Respondents' Capital and Start-Up Costs: $0.

Estimated Total Annual Cost to the Federal Government: $25,241.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-18448 Filed 8-16-24; 8:45 am]

BILLING CODE 9111-BW-P